DEPARTMENT OF ENERGY

Federal Energy Regulatory Commission

Combined Notice of Filings—B

Take notice that the Commission has received the following Natural Gas Pipeline Rate and Refund Report filings:

Filings Instituting Proceedings

Docket Numbers: RP12-609-000.

Applicants: Texas Gas Transmission, LLC.

Description: Report Filing: 2021 Operational Purchases and Sales Report Filing to be effective N/A.

Filed Date: 4/29/22.

Accession Number: 20220429-5030.

Comment Date: 5 p.m. ET 5/11/22.

Docket Numbers: RP13-212-000.

Applicants: Boardwalk Storage Company, LLC.

Description: Report Filing: 2021 Operational Purchases and Sales Report to be effective N/A.

Filed Date: 4/29/22.

Accession Number: 20220429-5033.

Comment Date: 5 p.m. ET 5/11/22.

Docket Numbers: RP22-856-000.

Applicants: East Cheyenne Gas Storage, LLC.

Description: Report Filing: ECGS 2022-04-28 Original Volume No. 1 Cancellation to be effective N/A.

Filed Date: 4/28/22.

Accession Number: 20220428-5327.

Comment Date: 5 p.m. ET 5/10/22.

Docket Numbers: RP22-871-000.

Applicants: Northern Natural Gas Company.

Description: § 4(d) Rate Filing: 20220429 Winter PRA to be effective 11/1/2022.

Filed Date: 4/29/22.

Accession Number: 20220429-5048.

Comment Date: 5 p.m. ET 5/11/22.

Docket Numbers: RP22-872-000.

Applicants: East Cheyenne Gas Storage, LLC.

Description: Compliance filing: ECGS 2022-04-29 Notice of Change in Status to be effective N/A.

Filed Date: 4/29/22.

Accession Number: 20220429-5061.

Comment Date: 5 p.m. ET 5/11/22.

Docket Numbers: RP22-873-000.

Applicants: Kern River Gas Transmission Company.

Description: § 4(d) Rate Filing: 2022 Pooling Filing to be effective 6/1/2022.

Filed Date: 4/29/22.

Accession Number: 20220429-5095.

Comment Date: 5 p.m. ET 5/11/22.

Docket Numbers: RP22-874-000.

Applicants: ANR Pipeline Company.

Description: § 4(d) Rate Filing: ANR—TVA #114656 Amendment 12 to be effective 6/1/2022.

Filed Date: 4/29/22.

Accession Number: 20220429-5100.

Comment Date: 5 p.m. ET 5/11/22.

Docket Numbers: RP22-875-000.

Applicants: Wyoming Interstate Company, L.L.C.

Description: § 4(d) Rate Filing: Negotiated Rate Agreement Filing (BP Energy) to be effective 6/1/2022.

Filed Date: 4/29/22.

Accession Number: 20220429-5103.

Comment Date: 5 p.m. ET 5/11/22.

Docket Numbers: RP22-876-000.

Applicants: El Paso Natural Gas Company, L.L.C.

Description: § 4(d) Rate Filing: Negotiated Rate Agreement Filing (JM_RAL) to be effective 5/1/2022.

Filed Date: 4/29/22.

Accession Number: 20220429-5107.

Comment Date: 5 p.m. ET 5/11/22.

Docket Numbers: RP22-877-000.

Applicants: El Paso Natural Gas Company, L.L.C.

Description: § 4(d) Rate Filing: Negotiated Rate Agreement Update (SoCal May-Oct) to be effective 5/1/2022.

Filed Date: 4/29/22.

Accession Number: 20220429-5119.

Comment Date: 5 p.m. ET 5/11/22.

Docket Numbers: RP22-878-000.

Applicants: Carlsbad Gateway, LLC.

Description: Compliance filing: Carlsbad Gateway NAESB Compliance Filing to be effective 6/1/2022.

Filed Date: 4/29/22.

Accession Number: 20220429-5125.

Comment Date: 5 p.m. ET 5/11/22.

Docket Numbers: RP22-879-000.

Applicants: Northern Natural Gas Company.

Description: § 4(d) Rate Filing: 20220429 Negotiated Rate to be effective 5/1/2022.

Filed Date: 4/29/22.

Accession Number: 20220429-5133.

Comment Date: 5 p.m. ET 5/11/22.

Docket Numbers: RP22-880-000.

Applicants: El Paso Natural Gas Company, L.L.C.

Description: § 4(d) Rate Filing: Negotiated Rate Agreement Update (SoCal May 2022) to be effective 5/2/2022.

Filed Date: 4/29/22.

Accession Number: 20220429-5136.

Comment Date: 5 p.m. ET 5/11/22.

Any person desiring to protest in any the above proceedings must file in accordance with Rule 211 of the Commission's Regulations (18 CFR 385.211) on or before 5:00 p.m. Eastern time on the specified comment date.

The filings are accessible in the Commission's eLibrary system (https://elibrary.ferc.gov/idmws/search/fercgensearch.asp) by querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

Dated: April 29, 2022.
Debbie-Anne A. Reese,
Deputy Secretary.

[FR Doc. 2022-09653 Filed 5-4-22; 8:45 am]

BILLING CODE 6717-01-P